DEPARTMENT OF LABOR

Employment and Training Administration

[TA-W-50,492]

Adventure Travel, Iron Mountain, MI; Notice of Negative Determination Regarding Application for Reconsideration

By application received on March 3, 2003, a company official requested administrative reconsideration of the Department's negative determination regarding eligibility for workers and former workers of the subject firm to apply for Trade Adjustment Assistance (TAA). The denial notice applicable to workers of Adventure Travel, Iron Mountain, Michigan was signed on February 7, 2003, and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition was filed on behalf of a worker at Adventure Travel, Iron Mountain, Michigan engaged in activities related to travel services. The petition was denied because the petitioning worker did not produce an article within the meaning of section 222(3) of the Act.

The petitioner appears to allege that “the ‘article’ definitions from the U.S. Code Collections” support the argument that travel services constitute production. The petitioner further states that “as you can see, the code and hard data evidence I provided with my petition are synonymous.” When the petitioner was contacted in regard to what was meant by “US Code Collections”, she clarified that she meant section 222(3) of the Trade Act of 1974.

Of the several attachments sent with the original petition, the first is a letter written by the petitioner stating why the worker produced a product. The petitioner states that subject firm services required “skills and tools” to produce. When contacted for further clarification, the petitioner stated that the complexity of the work involved, including the fact that multiple airline carrier inventories were consulted to produce a single ticket, deserved consideration of the work as production.

The sophistication of the work involved is not an issue in ascertaining whether the petitioning workers are eligible for trade adjustment assistance, but rather only whether they produced an article within the meaning of section 222(3) of the Trade Act of 1974.

In the letter attached to the petition, the petitioner also asserts that the tickets produced by the subject firm are “tangible” and states that she “has boxes and files of these very real copies of (travel) contracts”.

The fact that the terms of travel contract services performed by the petitioner are printed on paper does not constitute production of an article within the meaning of section 222(3).

The second attachment appears to be the first page of an e-mail from the “Chairman of Congressional Travel Industry Caucus” to Attorney General Ashcroft, with a section circled alleging that “major carriers” are engaging in unfair taxation and commission standards regarding U.S. and Canadian travel agents relative to “foreign” travel agents.

The information in this attachment has no bearing on the reason for denying the petitioning worker; an article was not produced within the meaning of section 222(3) of the Trade Act.

The third attachment is an untitled single page that appears to be printed from the internet. At the top of the page there is a table with the heading “NAFTA by Country Trade Comparisons, 1992.” The petitioner has circled a paragraph below this that suggests that there is a downward trend in U.S. production and a corresponding increase in U.S. service industries.

This information is irrelevant to the criteria used to assess eligibility for trade adjustment assistance.

The next attachment is titled “Upheaval in Travel Distribution: Impact on Consumers and Travel Agents” and appears to be an excerpt of a study authored by a congressional commission. On the first page, a section has been highlighted by the petitioner that describes the mission of the study to establish “whether there are impediments to obtaining information about the airline industry's services and products.” It seems to be the intent of the petitioner to assert that this congressional commission may be referring to the “airline contracts” (as noted on petition) processed by the petitioner as products, and that, as a result, the worker should be considered eligible for trade adjustment assistance. In another section circled by the petitioner, a section notes that “internet technology is not going to save consumers from airline domination of retailing.” Again, the petitioner appears to believe that commission's use of words (specifically, retailing) merit the acknowledgement of airline tickets as products.

In fact, the processing of contracts and/or tickets does not constitute production within the meaning of section 222(3).

Upon further review, the Department has determined that, even if the petitioning worker were considered a production worker, criterion (1) has not been met. Section 222 of the Trade Act defines an eligible worker “group” as “three or more workers in a firm or an appropriate subdivision thereof.”

The investigation revealed that the subject firm is owner-operated and there are no employees of the firm.

Conclusion

After review of the application and investigative findings, I conclude that there has been no error or misinterpretation of the law or of the facts which would justify reconsideration of the Department of Labor's prior decision. Accordingly, the application is denied.

Signed in Washington, DC, this 20th day of March 2003.
Edward A. Tomchick,
Director, Division of Trade Adjustment Assistance.

[FR Doc. 03-8357 Filed 4-4-03; 8:45 am]

BILLING CODE 4510-30-P